DEPARTMENT OF THE INTERIOR

National Park Service

National Register of Historic Places; Notification of Pending Nominations

Nominations for the following properties being considered for listing in the National Register were received by the National Park Service before September 24, 2005. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by November 7, 2005.

Patrick W. Andrus,
Acting Chief, National Register/National Historic Landmarks Program.

ALASKA

Fairbanks North Star Borough-Census Area Constitution Hall, University of Alaska Fairbanks campus, Fairbanks, 05001196

ARIZONA

Maricopa County

Alma Ward Meeting House, 809 W. Main St., Mesa, 05001198

Selleh House, 1104 S. Mill Ave., Tempe, 05001197

COLORADO

Huerfano County

Huerfano County High School, 415 Walsen Ave., Walsenburg, 05001200

KANSAS

Anderson County

Kirk, Sennett and Bertha, House, 145 W. Fourth Ave., Garnett, 05001199

Butler County

Oak Lawn Farm Dairy Barn, 1246 NW Meadowlark, Whitewater, 05001202

Jewell County

Burr Oak School, (Public Schools of Kansas MPS) 776 Kansas, Burr Oak, 05001201

Philips County

Pleasant Ridge Church, 381 E. Buffalo Rd., Phillipsburg, 05001204

Rooks County

St. Joseph Catholic Church, 105 N. Oak St., Damar, 05001203

[FR Doc. 05-21035 Filed 10-20-05; 8:45 am]

BILLING CODE 4312-51-M